DEPARTMENT OF TRANSPORTATION

Federal Transit Administration

State Coordination Grants; Solicitation for Proposals

AGENCY: Federal Transit Administration, DOT.

ACTION: Notice of request for proposals.

SUMMARY: This solicitation is for states to submit proposals for the State Coordination Grants component of the United We Ride initiative (UWR). The intent of the UWR initiative is to break down the barriers among Federal programs as they relate to transportation and set the stage for local partnerships. State Coordination Grants may be used to assist states in (1) conducting a comprehensive state assessment using the UWR Framework for Action; (2) developing a comprehensive state action plan for Coordinating Human Service Transportation; or (3) for those states who already have a comprehensive state action plan, grants can be used for implementing one or more of the elements identified within the Framework for Action (for those states that have an established Action Plan). The UWR Framework for Action is a self-assessment tool for states and communities to conduct comprehensive state assessments to identify areas of success and highlight the actions still needed to improve the coordination of human service transportation. The self-assessment tool is designed to address the needs of people with disabilities, older adults, and individuals with lower-incomes. For further information on the Framework for Action, please visit: www.fta.dot.gov.

DATES: Proposals must be submitted August 23, 2004.

ADDRESSES: Proposals are to be submitted electronically to UnitedWeRide@fta.dot.gov.

FOR FURTHER INFORMATION CONTACT: Elizabeth Solomon at PH: 202-366-0242; FAX: 202-366-3136; United We Ride Grants, 400 7th Street, SW., Room 9114, Washington, DC; or UnitedWeRide@fta.dot.gov.

SUPPLEMENTARY INFORMATION: The U.S. Departments of Transportation (DOT), Health and Human Services (HHS), Labor (DOL) and Education (DoED), have launched United We Ride (UWR), a five part initiative to enhance the coordination on human service transportation. UWR intends to break down the barriers between programs and set the stage for local and state partnerships that generate common sense solutions and deliver A-plus performance for those individuals who depend on transportation services to participate fully in community life. The UWR five initiatives include: (1) The Framework for Action, (2) A National Leadership Forum on Human Service Transportation Coordination, (3) State Leadership Awards, (4) State Coordination Grants, and (5) Help Along the Way.

The Congress and the Executive Branch are interested in ensuring that various human service transportation activities funded by various Federal programs are better coordinated. The General Accounting Office issued a report on “Transportation Disadvantaged Populations” (June 2003) that identified 62 different Federal Programs across eight Federal agencies that provide funding that may be used to support community transportation services. The Report points out that there are multiple public and private agencies that provide human service transportation in any one community, and services vary greatly in terms of eligibility requirements, hours or scope of operation, specific destinations and quality.

Given the multiplicity of programs and the significant dollar amounts spent, more effective coordination is needed to ensure better service to more people. This is especially true when Federal, state, and local budgets for human service activities are under extreme financial pressure.

As also indicated by GAO, many objectives have been achieved; however the fragmentation and lack of coordination within supporting agencies continue to be a challenge.

Program Goals for State Coordination Grants

1. Increase overall capacity of states to deliver comprehensive and coordinated human service transportation that meet the needs of transportation-disadvantaged population (i.e., individuals with lower incomes, older adults, and persons with disabilities across the lifespan).

2. Increase cross agency/department collaboration to facilitate coordination, enhance services, at the same time address duplication and redundancies of programs and services.

Eligibility of Applicants

We will accept an electronic proposal from each state. The proposal must include a clear demonstration of collaboration among multiple state agencies.

The multiple state agencies within each state should designate a “lead” agency. The “lead” agency is responsible for the application, implementation, reporting and evaluation process.

Purpose

State Coordination Grants are intended to assist states that want to strengthen or jump start efforts to coordinate human service transportation. The Framework for Action and its accompanying Facilitator's Guide enables leaders at the state level to guide a coordinating council, an interagency working group, through a transportation coordination assessment and action planning process. State grants may be used to assist states in (1) Conducting a comprehensive state assessment using the UWR Framework for Action; (2) developing a comprehensive State Action Plan for Coordinating Human Service Transportation; or (3) implementing one or more of the elements identified within the Framework for Action (for those states that have an established Action Plan).

Examples of how states may use state coordination grants funds:

• Conduct a statewide assessment of current needs, resources and services related to human service transportation using the Framework for Action.

• Base on the Framework for Action assessment, develop Action Plans that improve coordination of human service transportation for individuals with disabilities, older adults, and persons with lower incomes.

• States may help local communities complete the Framework for Action.

• Address one or more elements identified in the State Action Plan.

• Conduct statewide seminars/conferences to establish statewide dialogue that leads to effective action steps for future coordination of human service transportation issues.

• Replicate a successful model in one or more communities across the state (i.e., Transit Pass program; Volunteer Driver; Travel Training; etc.).

• Integrate technology into present transportation system to address the needs of coordination of human service transportation.

• Integrate technology to address the needs of coordination on human service transportation.

• Test a mobility management strategy.

Assistance to Grantee

States receiving grants may also receive technical assistance from technical assistance centers funded by the four U.S. Departments. Specific centers include the Community Transportation Assistance Program (CTAP), the Rural Transportation Assistance Program (RTAP), Easter Seals Project ACTION, Intelligent Transportation Systems Peer to Peer Program, and the Multi-State Technical Assistance Program. The range of services available include, but are not limited to, assistance with coalition building, assessment, strategic planning, training, policy development, customer outreach, implementation strategies, and evaluation. Technical assistance is provided via phone, e-mail, and during on-site visits when appropriate.

Proposal Submission

Your proposal should be sent electronically and typed in Microsoft Word. The proposal should include responses to the following questions. Submit your response to all six questions double-spaced, Times Roman, 12-point font not exceeding 5 pages (not including the budget). E-mail your proposals to UnitedWeRide@fta.dot.gov.

1. Briefly describe the state's mission as it relates to the coordination of human service transportation.

2. Briefly describe how this grant will address and support your plans to (a) Conduct a comprehensive state assessment using the UWR Framework for Action; (b) develop a comprehensive State Action Plan for Coordinating Human Service Transportation; or (c) for those states that have a comprehensive action plan, the grant can be used to implement one or more of the elements identified within the Framework for Action. For those states that have a comprehensive statewide action plan, and will be implementing elements outlined in the Framework for Action, include Page 41 of the Framework for Action Self Assessment Tool and a copy of the State's Action Plan.

3. Describe the level of coordination/collaboration with any other partners (providers, advocates, private for profit, non-profit organizations, or government).

4. Briefly describe how the state plan will meaningfully involve consumers in the development and implementation of human service transportation grant activities.

5. Submit a narrative of your proposed project and a budget that includes line items.

Note: Grant funds may not be used to support capital equipment, the provision of services, or operating cost for services.

6. States that did not participate in the United We Ride Leadership Forum in February (2004) must include a letter of commitment from the Governor's office.

Criteria for Rating and Selecting Proposals

1. The extent to which the project's goals, objectives, and measurable outcomes for improving human service transportation are included in a grant implementation plan to (a) Conduct a comprehensive state assessment using the UWR Framework for Action; (b) develop a comprehensive state action plan for Coordinating Human Service Transportation; or (c) implement one or more of the elements identified within the Framework for Action (for those states that have an established Action Plan).

2. The extent to which the proposal is based on the elements identified in the Framework for Action: Building the Fully Coordinated Human Service Transportation System.

Note: This criteria only applies to states that have a comprehensive state action plan and are choosing the option “c”, which is to implement elements outlined in the Framework for Action.

Those elements include:

a. Making Things Happen by Leadership and Partnership, in which the Governor and state officials would serve as catalysts for envisioning, organizing, and sustaining a coordinated system that provides mobility and access to transportation for all who need it.

b. Taking Stock of State Needs and Moving Forward, in which a completed and regularly updated transportation assessment process will identify assets, expenditures, services provided, service gaps, duplication of services, specific mobility needs of the various target populations, and opportunities for improvement.

c. Putting Customers First, in which customers and their advocates and local agencies systematically would engage in the assessment, planning, resource allocation, and decision making for coordinating transportation services.

d. Adapting Funding for Greater Mobility, in which state agencies will work together to create funding mechanisms that support shared ownership of funding responsibilities while completing reporting and tracking requirements for various funding streams.

e. Technology Moves Coordination to the Next Level, in which technology would be used to design and manage coordinated transportation systems in real time with greater efficiency and effectiveness.

3. The extent to which applicants have or propose a plan that will demonstrate a high level of executive leadership and commitment, shared decision making, and policy adoption among agencies within the state. States should address how the plan will foster efforts to build collaboration and involvement with stakeholder organizations, including consumer and advocacy groups. Applicants should submit letters of commitment from partner agencies. Letters of commitment should be submitted in addition to the five-page application.

4. The extent to which the plan's proposal address issues across populations, which include people with disabilities, older adults, and individuals with lower-incomes.

5. The extent to which each applicant submits items requested in the Proposal Submission section.

Eligibility/Expenses

Grants funds may not be used for capital purchases, provision of services, or operation of services. Grant funds may be used to support personnel for planning, training, coordination, and other administration activities required to enhance coordination among and across agencies within the state. Supplies, small equipment (computers, etc.), and travel are also eligible expenses.

Review and Award Process

Interagency panels from DOT/FTA, HHS, DOL, and DoED Regional offices will review each grant application. The Federal Transit Administrator will notify successful applicants. [The anticipated notification of grantee selections is 60 days from the Federal Register announcement date.] Regional offices will work with respective Washington based offices and technical assistance staff to assist states with implementation after the selections are announced. Selected recipients have pre-award authority as of the date of the announcement.

Grant Periods and Awards

One-year grant period (starting on the date of the grant contract obligation date and ending one year from that date)

Grants will be given to all states that submit proposals and meet the requirements outlined in the guidance. The total amount available for grants will be at least One Million Dollars ($1,000,000) for up to 50 awards. Funding will range from Twenty Thousand Dollars ($20,000) to Thirty-Five Thousand Dollars ($35,000) per grant.

Issued on: June 29, 2004.
Jennifer L. Dorn,
Administrator.

[FR Doc. 04-15254 Filed 7-6-04; 8:45 am]

BILLING CODE 4910-57-P